INTERNATIONAL TRADE COMMISSION

[Investigation Nos. 731-TA-1146-1147 (Final)]

1-Hydroxyethylidene-1,1-Diphosphonic Acid (HEDP) From China and India

AGENCY: United States International Trade Commission.

ACTION: Revised schedule for the subject investigations.

DATES: Effective Date: January 15, 2009.

FOR FURTHER INFORMATION CONTACT: Nathanael Comly (202-205-3174), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: Effective October 21, 2008, the Commission established a schedule for the conduct of the final phase of the subject investigations (73 FR 67545, November 14, 2008). As a result of subsequent events, however, the Commission is revising its schedule.

The Commission's new schedule for the investigations is as follows: The Commission will make its final release of information on March 30, 2009; and final party comments are due on April 1, 2009.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: January 15, 2009.
Marilyn R. Abbott,
Secretary to the Commission.

[FR Doc. E9-1977 Filed 1-29-09; 8:45 am]

BILLING CODE 7020-02-P